DEPARTMENT OF ENERGY

Federal Energy Regulatory Commission

Combined Notice of Filings #1

Take notice that the Commission received the following electric corporate filings:

Docket Numbers: EC24-8-000.

Applicants: Salt Creek Township Solar, LLC, BCD 2024 Fund 1 Lessee, LLC.

Description: Informational Report of Notice of Change in Circumstances of Salt Creek Township Solar, LLC, et al.

Filed Date: 8/13/24.

Accession Number: 20240813-5203.

Comment Date: 5 p.m. ET 9/3/24.

Take notice that the Commission received the following exempt wholesale generator filings:

Docket Numbers: EG24-259-000.

Applicants: Holyoke BESS, LLC.

Description: Holyoke BESS, LLC submits Self-Certification of Exempt Wholesale Generator Status.

Filed Date: 8/21/24.

Accession Number: 20240821-5146.

Comment Date: 5 p.m. ET 9/11/24.

Docket Numbers: EG24-260-000.

Applicants: PNY BESS, LLC.

Description: PNY BESS, LLC submits Self-Certification of Exempt Wholesale Generator Status.

Filed Date: 8/21/24.

Accession Number: 20240821-5156.

Comment Date: 5 p.m. ET 9/11/24.

Docket Numbers: EG24-261-000.

Applicants: Wellesley BESS, LLC.

Description: Wellesley BESS LLC submits Self-Certification of Exempt Wholesale Generator Status.

Filed Date: 8/21/24.

Accession Number: 20240821-5157.

Comment Date: 5 p.m. ET 9/11/24.

Docket Numbers: EG24-262-000.

Applicants: Unbridled Solar, LLC.

Description: Unbridled Solar, LLC submits Notice of Self-Certification of Exempt Wholesale Generator Status.

Filed Date: 8/22/24.

Accession Number: 20240822-5150.

Comment Date: 5 p.m. ET 9/12/24.

Take notice that the Commission received the following electric rate filings:

Docket Numbers: ER24-2096-001.

Applicants: New York Independent System Operator, Inc.

Description: Compliance filing: NYISO Compliance re: Capacity Accreditation Fuel Constraints Rules to be effective 7/24/2024.

Filed Date: 8/22/24.

Accession Number: 20240822-5071.

Comment Date: 5 p.m. ET 9/12/24.

Docket Numbers: ER24-2391-001.

Applicants: Hecate Energy Highland LLC.

Description: Tariff Amendment: Amendment to Category 1 Status Filing to be effective 6/28/2024.

Filed Date: 8/22/24.

Accession Number: 20240822-5051.

Comment Date: 5 p.m. ET 9/12/24.

Docket Numbers: ER24-2466-000.

Applicants: NorthWestern Corporation.

Description: Report Filing: RS336 Cert of Concurrence—Supplemental Filing to be effective N/A.

Filed Date: 8/22/24.

Accession Number: 20240822-5134.

Comment Date: 5 p.m. ET 9/12/24.

Docket Numbers: ER24-2825-000.

Applicants: Southwest Power Pool, Inc.

Description: § 205(d) Rate Filing: Revisions to OATT to Implement Joint Targeted Interconnection Queue Framework to be effective 11/14/2024.

Filed Date: 8/21/24.

Accession Number: 20240821-5147.

Comment Date: 5 p.m. ET 9/19/24.

Docket Numbers: ER24-2826-000.

Applicants: American Transmission Systems, Incorporated, PJM Interconnection, L.L.C.

Description: § 205(d) Rate Filing: American Transmission Systems, Incorporated submits tariff filing per 35.13(a)(2)(iii: ATSI submits Operating and Interconnection Agreement, SA No. 2853 to be effective 10/31/2024.

Filed Date: 8/22/24.

Accession Number: 20240822-5043.

Comment Date: 5 p.m. ET 9/12/24.

Docket Numbers: ER24-2827-000.

Applicants: American Electric Power Service Corporation, PJM Interconnection, L.L.C.

Description: § 205(d) Rate Filing: American Electric Power Service Corporation submits tariff filing per 35.13(a)(2)(iii: AEP submits on behalf of I&M and ComEd the Revised IA SA No. 1462 to be effective 8/12/2024.

Filed Date: 8/22/24.

Accession Number: 20240822-5044.

Comment Date: 5 p.m. ET 9/12/24.

Docket Numbers: ER24-2828-000.

Applicants: Midcontinent Independent System Operator, Inc.

Description: § 205(d) Rate Filing: 2024-08-22_SA 4332 Minnesota Power-Regal Solar GIA (J1611) to be effective 8/9/2024.

Filed Date: 8/22/24.

Accession Number: 20240822-5054.

Comment Date: 5 p.m. ET 9/12/24.

Docket Numbers: ER24-2829-000.

Applicants: PJM Interconnection, L.L.C.

Description: § 205(d) Rate Filing: Amendment to WMPA, Service Agreement No. 6769; Queue No. AF1-254 to be effective 10/22/2024.

Filed Date: 8/22/24.

Accession Number: 20240822-5057.

Comment Date: 5 p.m. ET 9/12/24.

Docket Numbers: ER24-2830-000

Applicants: PJM Interconnection, L.L.C.

Description: § 205(d) Rate Filing: Amendment to WMPA, Service Agreement No. 6599; AG1-045 to be effective 10/22/2024.

Filed Date: 8/22/24.

Accession Number: 20240822-5098.

Comment Date: 5 p.m. ET 9/12/24.

Docket Numbers: ER24-2831-000.

Applicants: Public Service Company of Colorado.

Description: Tariff Amendment: 2024-08-22 TSGT-318-PSCo and 478-PSCo—NOC to be effective 5/8/2024.

Filed Date: 8/22/24.

Accession Number: 20240822-5121.

Comment Date: 5 p.m. ET 9/12/24.

Docket Numbers: ER24-2832-000.

Applicants: Unitil Power Corp.

Description: Compliance filing: Amended Unitil System Agreement to be effective 5/1/2003.

Filed Date: 8/22/24.

Accession Number: 20240822-5130.

Comment Date: 5 p.m. ET 9/12/24.

Docket Numbers: ER24-2833-000.

Applicants: Silver Peak Solar, LLC.

Description: Baseline eTariff Filing: Baseline new to be effective 8/23/2024.

Filed Date: 8/22/24.

Accession Number: 20240822-5152.

Comment Date: 5 p.m. ET 9/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 22, 2024.
Debbie-Anne A. Reese,
Acting Secretary.

[FR Doc. 2024-19363 Filed 8-27-24; 8:45 am]

BILLING CODE 6717-01-P